DEPARTMENT OF THE INTERIOR

National Park Service

[NPS-WASO-NAGPRA-NPS0032942; PPWOCRADN0-PCU00RP14.R50000]

Notice of Intent To Repatriate Cultural Items: McClure Archives and University Museum, University of Central Missouri, Warrensburg, MO

AGENCY: National Park Service, Interior.

ACTION: Notice.

SUMMARY: The McClure Archives and University Museum, University of Central Missouri, in consultation with the appropriate Indian Tribes or Native Hawaiian organizations, has determined that the cultural item listed in this notice meets the definition of object of cultural patrimony. Lineal descendants or representatives of any Indian Tribe or Native Hawaiian organization not identified in this notice that wish to claim this cultural item should submit a written request to the McClure Archives and University Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the McClure Archives and University Museum at the address in this notice by December 6, 2021.

FOR FURTHER INFORMATION CONTACT: Olivia Thomsen, NAGPRA Preparator, McClure Archives and University Museum of JCKL 1470, 601 Missouri Street, Warrensburg, MO 64093, telephone (660) 543-4649, email thomsen@ucmo.edu.

SUPPLEMENTARY INFORMATION: Notice is here given in accordance with the Native American Graves Protection and Repatriation Act (NAGPRA), 25 U.S.C. 3005, of the intent to repatriate a cultural item under the control of the McClure Archives and University Museum, University of Central Missouri, Warrensburg, MO, that meets the definition of object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

Sometime in the 1970s, one cultural item was purchased by the mother of Dr. Jeff Yelton from an antique store in Jefferson City, MO, as a gift upon her son's graduation from the University of Missouri. In 2019, Dr. Yelton donated the item to the McClure Archives and University Museum. The object of cultural patrimony is a basket made from woven bark strips.

Dr. Yelton had attributed the basket to the Ho-Chunk. Nevertheless, based on further study of the item by museum staff and consultation with the Winnebago Tribe of Nebraska, the Museum has determined that the basket is culturally affiliated with the Winnebago Tribe of Nebraska.

Determinations Made by the McClure Archives and University Museum, University of Central Missouri

Officials of the McClure Archives and University Museum, University of Central Missouri have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Winnebago Tribe of Nebraska.

Additional Requestors and Disposition

Lineal descendants or representatives of any Indian Tribe or Native Hawaiian organization not identified in this notice that wish to claim this cultural item should submit a written request with information in support of the claim to Olivia Thomsen, NAGPRA Preparator, McClure Archives and University Museum of JCKL 1470, 601 Missouri Street, Warrensburg, MO 64093, telephone (660) 543-4649, email thomsen@ucmo.edu, by December 6, 2021. After that date, if no additional claimants have come forward, transfer of control of the object of cultural patrimony to the Winnebago Tribe of Nebraska may proceed.

The McClure Archives and University Museum, University of Central Missouri is responsible for notifying the Winnebago Tribe of Nebraska that this notice has been published.

Dated: October 23, 2021.
Melanie O'Brien,
Manager, National NAGPRA Program.

[FR Doc. 2021-24051 Filed 11-3-21; 8:45 am]

BILLING CODE 4312-52-P